DEPARTMENT OF DEFENSE

Office of the Secretary

[Docket ID: DoD-2013-OS-0066]

Privacy Act of 1974; System of Records

AGENCY: Office of the Secretary of Defense/Joint Staff, DoD.

ACTION: Notice to amend a System of Records.

SUMMARY: The Office of the Secretary of Defense is amending a system of records notice in its existing inventory of record systems subject to the Privacy Act of 1974 (5 U.S.C. 552a), as amended.

DATES: This proposed action will be effective on May 17, 2013 unless comments are received which result in a contrary determination. Comments will be accepted on or before May 16, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense systems of records notices subject to the Privacy Act of 1974 (5 U.S.C. 552a), as amended, have been published in the Federal Register and are available from the address in FOR FURTHER INFORMATION CONTACT.

The Office of the Secretary of Defense proposes to amend one system in records notice in its inventory of record systems subject to the Privacy Act of 1974 (5 U.S.C. 552a), as amended. The proposed amendment is not within the purview of subsection (r) of the Privacy Act of 1974 (5 U.S.C. 552a), as amended, which requires the submission of a new or altered system report.

Dated: March 25, 2013.
Aaron Siegel,
Alternate OSD Federal Register Liaison Officer, Department of Defense.

DFMP 26

System name:

Vietnamese Commando Compensation Files (November 30, 1998, 63 FR 65760).

Changes:

System Identifier:

Delete entry and replace with “DPR 42.”

* * * * *

System location:

Delete entry and replace with “Washington National Records Center, 4205 Suitland Road, Suitland, MD 20746-8001.”

Categories of individuals covered by the system:

Delete entry and replace with “This is a closed system—no new records may be added. Individuals who submitted claims for compensation under Public Law 104-201, Sections 657, as amended by Public Law 105-261, 658, payments to certain persons captured or interned by North Vietnam.”

Categories of records in the system:

Delete entry and replace with “System (including documentation) is comprised of (1) names (including aliases, former names, or other names used); (2) current address; (3) current telephone number(s); (4) United States Social Security Number (SSN), (if any), United States Immigration and Naturalization Service (INS) Identification or similar number(s), (if any), and any equivalent social security or identification number(s), (if any), issued to applicant by the Democratic Republic of Vietnam, the Republic of Vietnam, or the current government of Vietnam; (5) date of birth; (6) place of birth; (7) distinguishing marks (fingerprints, scars, etc.); (8) family identification, including (a) parents; (b) spouse; (c) children; (d) brothers; (e) sisters; (f) others; (9) team name; (10) place of insertion; (11) date of launch; (12) dates of captivity; (13) name, address, and telephone number of counsel or attorney (if any); and (14) required sworn declaration of veracity of above, including denial of service with or collaboration with North Vietnam.”

* * * * *

Purpose(s):

Delete entry and replace with “Records were used by officials of the Vietnamese Commandos Compensation Commission to (1) verify the identity of claimants; (2) ensure the claim has been submitted in a timely manner (on or before November 15, 1998); (3) adjudicate the claim; (4) establish verified list of claimants for disbursing agency and facilitate cash payments to claimants; (5) provide a check list for attorney's fees limitation (as specified in the law); (6) establish a check list of paid claimants to preclude future claims or judicial review; and (7) prepare reports to the Congress.”

Routine uses of records maintained in the system, including categories of users and the purposes of such uses:

Delete entry and replace “In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system.”

Policies and practices for storing, retrieving, accessing, retaining, and disposing of records in the system:

Storage:

Delete entry and replace with “Paper file folders and electronic storage media.”

Retrievability:

Delete entry and replace with “Records are retrieved by name, date and place of birth, and/or SSN, if assigned and voluntarily furnished.”

Safeguards:

Delete entry and replace with “Records are now stored at the Washington National Records Center and are only released upon request. See “Record Access Procedures” below.”

Retention and disposal:

Delete entry and replace with “Records will be owned by the DoD and physically maintained at the Washington National Records Center until January 2032 at which time ownership will be transferred to the National Archives and Records Administration.”

System manager(s) and address:

Delete entry and replace with “OSD Military Compensation Policy, 4000 Defense Pentagon, Washington, DC 20301-4000.”

Notification procedure:

Delete entry and replace with “Individuals seeking to determine whether information about themselves is contained in this system should address written inquiries to the office of OSD Military Compensation Policy, 4000 Defense Pentagon, Washington, DC 20301-4000.

Requesters should provide full name and any former names used and date and place of birth. If a requester has a SSN and desires to furnish it, he or she may do so but failure to provide it will not result in the request not being processed.”

Record access procedures:

Delete entry and replace with “Individuals seeking access to information about themselves contained in this system of records should address written inquiries to the Office of the Secretary of Defense/Joint Staff Freedom of Information Act Requester Service Center, 4800 Mark Center Drive Alexandria, VA 22350-3100.

Requesters should provide full name and any former names used and date and place of birth. If a requester has a SSN and desires to furnish it, he or she may do so but failure to provide it will not result in the request not being processed. The request must also be signed and include the number of this system of records notice.”

Contesting record procedures:

Delete entry and replace with “The OSD rules for accessing records, for contesting contents and appealing initial agency determinations are contained in OSD Administrative Instruction No. 81; 32 CFR part 311; or may be obtained from the system manager.”

Record source categories:

Delete entry and replace with “Information was received from claimants, their survivors, their attorneys and other authorized representatives; third party individuals; the Department of Defense; and Government intelligence agencies; the Immigration and Naturalization Service; and from the National Archives and Records Administration.”

* * * * *

[FR Doc. 2013-08896 Filed 4-15-13; 8:45 am]

BILLING CODE 5001-06-P